OFFICE OF THE UNITED STATES TRADE REPRESENTATIVE

[Docket No. WTO/DS-334]

WTO Dispute Settlement Proceeding Regarding Turkey—Measures Affecting the Importation of Rice

AGENCY: Office of the United States Trade Representative.

ACTION: Notice; request for comments.

SUMMARY: The Office of the United States Trade Representative (USTR) is providing notice that, in accordance with the Marrakesh Agreement Establishing the World Trade Organization (“WTO Agreement”), the United States has requested the establishment of a panel regarding Turkey's import restrictions on rice from the United States. That request may be found at http://www.wto.org contained in a document designated as WT/DS334/4. USTR invites written comments from the public concerning the issues raised in this dispute.

DATES: Although USTR will accept any comments received during the course of the dispute, comments should be submitted on or before May 17, 2006 to be assured of timely consideration by USTR.

ADDRESSES: Comments should be submitted (i) electronically, to FR0604@ustr.gov, with “Turkey Rice (DS334)” in the subject line, or (ii) by fax, to Sandy McKinzy at (202) 395-3640, with a confirmation copy sent electronically to the electronic mail address above, in accordance with the requirements for submission set out below.

FOR FURTHER INFORMATION CONTACT: Jeff Weiss, Assistant General Counsel, Office of the United States Trade Representative, 600 17th Street, NW., Washington, DC, (202) 395-4498.

SUPPLEMENTARY INFORMATION: Pursuant to section 127(b) of the Uruguay Round Agreements Act (URAA) (19 U.S.C. 3537(b)(1)), USTR is providing notice that the United States has requested the establishment of a WTO dispute settlement panel pursuant to the WTO Understanding on Rules and Procedures Governing the Settlement of Disputes (“DSU”). Such panel, which would hold its meetings in Geneva, Switzerland, would be expected to issue a report on its findings and recommendations within six to nine months after it is established.

Major Issues Raised by the United States

Under its import regime for rice, Turkey requires an import license to import rice. Turkey operates tariff-rate quotas for rice imports requiring that, in order to import specified quantities of rice at reduced tariff levels, importers must purchase specified quantities of domestic rice, including from the Turkish Grain Board, Turkish producers, or producer associations. In addition, Turkey denies or fails to grant licenses to import rice at or below the bound rate of duty without domestic purchase, including at the over-quota rate of duty.

USTR believes these measures are inconsistent with Turkey's obligations under:

1. Article 2.1 and paragraph 1(a) of Annex 1 of the TRIMs Agreement because Turkey imposes domestic purchase requirements;

2. Article III:4 of the GATT 1994 because Turkey accords imported rice less favorable treatment than domestic rice through the imposition of domestic purchase requirements “affecting [its] internal sale, offering for sale, purchase, transportation, distribution, or use”;

3. Article XI:1 of the GATT 1994 because Turkey's (1) denial of, or failure to grant, import licenses for rice at or below the bound rate of duty, and (2) the domestic purchase requirements, both on their own and in conjunction, constitute a prohibition or restriction on imports other than in the form of duties, taxes, or other charges; and

4. Article 4.2 of the Agriculture Agreement because Turkey's (1) denial of, or failure to grant, import licenses for rice at or below the bound rate of duty, and (2) the domestic purchase requirements, both on their own and in conjunction, are “measures of the kind which have been required to be converted into ordinary customs duties,” such as quantitative import restrictions, discretionary import licensing, and non-tariff measures maintained through a state-trading enterprise, which Members may not resort to or maintain under that Agreement.

USTR also considers that these measures are inconsistent with Turkey's obligations under: Articles X:1, X:2, and X:3 of the GATT 1994 and Articles 1.2, 1.3, 1.4, 1.5, 1.6, 3.2, 3.3, 3.5(a), 3.5(b), 3.5(d), 3.5(e), 3.5(f), 3.5(g), 3.5(h), 5.1, 5.2, 5.3, and 5.4 of the Import Licensing Agreement.

Public Comment: Requirements for Submissions

Interested persons are invited to submit written comments concerning the issues raised in the dispute. Comments should be submitted (i) electronically, to FR0604@ustr.gov, with “Turkey Rice (DS334)” in the subject line, or (ii) by fax, to Sandy McKinzy at (202) 395-3640, with a confirmation copy sent electronically to the electronic mail address above.

USTR encourages the submission of documents in Adobe PDF format as attachments to an electronic mail. Interested persons who make submissions by electronic mail should not provide separate cover letters; information that might appear in a cover letter should be included in the submission itself. Similarly, to the extent possible, any attachments to the submission should be included in the same file as the submission itself, and not as separate files.

Comments must be in English. A person requesting that information contained in a comment submitted by that person be treated as confidential business information must certify that such information is business confidential and would not customarily be released to the public by the commenter. Confidential business information must be clearly designated as such and “BUSINESS CONFIDENTIAL” must be marked at the top and bottom of the cover page and each succeeding page.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel and; if applicable, the report of the Appellate Body. An appointment to review the public file (Docket WTO/DS-334, Turkey Rice Dispute) may be made by calling the USTR Reading Room at (202) 395-6186.

The USTR Reading Room is open to the public from 9:30 a.m. to noon and 1 p.m. to 4 p.m., Monday through Friday.

Daniel Brinza,
Assistant United States Trade Representative for Monitoring and Enforcement.

[FR Doc. E6-3783 Filed 3-15-06; 8:45 am]

BILLING CODE 3190-W6-P